DEPARTMENT OF COMMERCE

Economic Development Administration

[Docket No.: 090212174-9175-01]

Solicitation of Applications for the FY 2009 University Center Economic Development Program Competition in EDA's Atlanta and Seattle Regional Offices

AGENCY: Economic Development Administration (EDA), Department of Commerce.

ACTION: Notice and request for applications.

SUMMARY: EDA is soliciting competitive applications from accredited institutions of higher education and from consortia of accredited institutions of higher education for FY 2009 University Center Economic Development Program funding in the geographic areas served by its Atlanta and Seattle regional offices. EDA's mission is to lead the federal economic development agenda by promoting innovation and competitiveness, preparing American regions for growth and success in the worldwide economy. Institutions of higher education have many assets and are able to establish and operate University Centers in partnership with EDA. These EDA-sponsored University Centers conduct research; provide technical assistance to tribal entities, local governments, and public and private sector organizations; and undertake other activities with the goal of enhancing regional economic development by promoting a favorable business environment to attract private capital investment and higher-skill, higher-wage jobs.

DATES: The closing date and time for receipt of applications for funding under the FY 2009 University Center Economic Development Program competition is April 21, 2009 at 5 p.m. Eastern Time for applicants in the Atlanta regional office's service area and 5 p.m. Pacific Time for applicants in the Seattle regional office's service area. The Atlanta regional office will hold an informational teleconference for prospective applicants on March 4, 2009 at 10:30 a.m. Eastern Time. The Seattle regional office will hold its informational teleconference call on March 5, 2009 at 10 a.m. Pacific Time. For instructions regarding these teleconferences, please see the information provided below under “Informational Teleconferences.”

Application Submission Requirements: Applicants are advised to read carefully the instructions contained in section IV of the complete Federal Funding Opportunity (FFO) announcement for this request for applications. To access the FFO announcement, please see the Web sites listed below under “Electronic Access.”

Applications may be submitted in two formats: (a) Electronically in accordance with the procedures provided on http://www.grants.gov; or (b) in paper format to the addresses provided below. EDA will not accept facsimile transmissions of applications. The content of the application is the same for paper submissions as it is for electronic submissions. A complete application must contain all the items listed in the Checklist of Application Materials, which is attached as an Exhibit to the FFO announcement.

You may obtain a paper application package by contacting the designated point of contact listed below under FOR FURTHER INFORMATION CONTACT for the EDA regional office servicing your geographic area. Applicants applying electronically through http://www.grants.gov may access the application package by following the instructions provided on http://www.grants.gov.

Paper Submissions: Applicants in Alabama, Florida, Georgia, Kentucky, Mississippi, North Carolina, South Carolina, or Tennessee should submit paper submissions (via postal mail, overnight delivery, or hand-delivery) to:

FY 2009 University Center Program Competition, Economic Development Administration, Atlanta Regional Office, 401 West Peachtree Street, NW., Suite 1820, Atlanta, GA 30308-3510.

Applicants in Alaska, Arizona, American Samoa, California, Guam, Hawaii, Idaho, Republic of Marshall Islands, Federated States of Micronesia, Nevada, Northern Mariana Islands, Oregon, Republic of Palau, or Washington should submit paper submissions (via postal mail, overnight delivery, or hand-delivery) to:

FY 2009 University Center Program Competition, Economic Development Administration, Seattle Regional Office, Jackson Federal Building, Room 1890, 915 Second Avenue, Seattle, WA 98174-1001.

Department of Commerce mail security measures may delay receipt of United States Postal Service mail for up to two weeks. Therefore, applicants who submit paper submissions are advised to use a guaranteed overnight delivery service.

Electronic Submissions: Applicants may submit applications electronically in accordance with the instructions provided at http://www.grants.gov. EDA strongly encourages that applicants not wait until the application closing date to begin the application process through http://www.grants.gov. The preferred file format for electronic attachments (e.g., the Project Narrative and attachments to Form ED-900) is portable document format (PDF); however, EDA will accept electronic files in Microsoft Word, WordPerfect, or Excel formats.

Applicants should access the following link for assistance in navigating http://www.grants.gov and for a list of useful resources: http://www.grants.gov/applicants/applicant_help.jsp . If you do not find an answer to your question under Frequently Asked Questions, try consulting the Applicant's User Guide. If you still cannot find an answer to your question, contact http://www.grants.gov via e-mail at support@grants.gov or telephone at 1-800-518-4726. The hours of operation for http://www.grants.gov are Monday-Friday, 7 a.m. to 9 p.m. Eastern Time (except for Federal holidays).

FOR FURTHER INFORMATION CONTACT: For additional information or for a paper copy of the application package, the designated contact person in the Atlanta regional office is Lee Mertins. Mr. Mertins may be reached at lmertins@eda.doc.gov or at 404-730-3015. The designated contact person in the Seattle regional office is Bettye Atkinson. Ms. Atkinson may be reached at batkinson@eda.doc.gov or at 206-220-7665. EDA's Internet Web site at http://www.eda.gov also has additional information on EDA and its programs, including the University Center Economic Development Program.

SUPPLEMENTARY INFORMATION: Program Information: EDA's mission is to lead the federal economic development agenda by promoting innovation and competitiveness, preparing American regions for growth and success in the worldwide economy. EDA fulfills its mission by helping our partners across the nation create wealth and minimize poverty by promoting a favorable business environment to attract private capital investment and higher-skill, higher-wage jobs through capacity-building, planning, infrastructure, research grants and strategic initiatives. Institutions of higher education have many assets that can help address regional economic problems and opportunities, such as faculty, staff, students, libraries, laboratories, facilities, and computer systems. With funding from EDA, institutions of higher education and consortia of institutions of higher education establish and operate University Centers. These EDA-sponsored University Centers conduct applied research, provide technical assistance to public and private sector organizations, and conduct other activities with the goal of enhancing regional economic development. EDA began administering the University Center Economic Development Program as a competitive multi-year program in FY 2004. Under this multi-year program designation, EDA holds University Center Economic Development Program competitions annually for two of its six regional offices each fiscal year. For example, in FY 2004 and 2007, EDA solicited proposals for the Austin and Denver regional offices, and in FY 2005 and 2008, EDA solicited proposals for the Philadelphia and Chicago regional offices. In FY 2006, EDA solicited proposals for the Atlanta and Seattle regional offices. Pursuant to its annual schedule, for FY 2009, EDA announces that it will hold its competition for proposals for the Atlanta and Seattle regional offices.

Electronic Access: The complete FFO announcement for the FY 2009 University Center Economic Development Program competition is available at http://www.grants.gov and at http://www.eda.gov/InvestmentsGrants/FFON.xml.

Funding Availability: EDA is operating with appropriations made available under the Consolidated Security, Disaster Assistance, and Continuing Appropriations Act, 2009, Public Law No. 110-329 (September 30, 2008). This Act makes available appropriations for the economic development assistance programs authorized by PWEDA and for the Trade Adjustment Assistance for Firms program authorized under the Trade Act of 1974, as amended (19 U.S.C. 2341-2355, 2391) in an amount based on FY 2008 funding levels that are pro-rated through March 6, 2009.

The funding periods and funding amounts referenced in this notice are subject to the availability of FY 2009 funds at the time of award, as well as to the Department of Commerce's and EDA's priorities at the time of award. The Department of Commerce and EDA will not be held responsible for application preparation costs if the University Center Economic Development Program fails to receive funding or is cancelled because of agency priorities. Publication of this notice does not obligate the Department of Commerce or EDA to award any specific grant or cooperative agreement or to obligate all or part of available funds.

If EDA final appropriations for FY 2009 are similar to those received in FY 2008, EDA expects to allocate approximately $7,202,620 to the University Center Economic Development Program. The amount of University Center funding available for competition in FY 2009 is expected to be approximately $1,285,920 for the Atlanta regional office and approximately $1,127,847 for the Seattle regional office. Annual awards for the University Centers selected in past years generally have been in the range of $80,000 to $200,000, although regional offices may choose to fund awards under this competition outside of these ranges. The remaining FY 2009 University Center Economic Development Program funds will be used to continue support for current University Centers selected during the FY 2007 and 2008 competitions in EDA's other four regional offices. Subject to the availability of funding at the time of award, the funds allocated to the University Center Economic Development Program are anticipated to be available until expended.

Statutory Authority: EDA's authorizing statute is the Public Works and Economic Development Act of 1965, as amended (42 U.S.C. 3121 et seq.) (PWEDA). The specific authority for the University Center Economic Development Program is section 207 of PWEDA (42 U.S.C. 3147), which authorizes EDA to make grants for the establishment of University Centers. EDA's regulations at 13 CFR parts 300-302 and subpart B of 13 CFR part 306 set forth the general and specific regulatory requirements applicable to the University Center Economic Development Program.

EDA's regulations are codified at 13 CFR chapter III. The regulations and PWEDA are accessible on EDA's Internet Web site at http://www.eda.gov/InvestmentsGrants/Lawsreg.xml.

Catalog of Federal Domestic Assistance (CFDA) Number: 11.303, Economic Development—Technical Assistance.

Applicant Eligibility: An accredited institution of higher education or a consortium of accredited institutions of higher education is eligible to apply for and to receive funding under the University Center Economic Development Program. See section 3(12) of PWEDA (42 U.S.C. 3122(12)) and 13 CFR 300.3. A university-affiliated research foundation also is eligible to apply for and to receive funding under this competitive solicitation, provided it demonstrates (e.g., a letter or other documentation from a university President or Chancellor) that it maintains the full and integral support of the university with respect to its economic development activities. For applicants applying as a consortium, one accredited institution must be identified as the lead agent that would have lead responsibility to EDA and to the other members of the consortium for implementing an award.

For FY 2009, the University Center Economic Development Program competition is open to eligible applicants in the geographic areas served by EDA's Atlanta and Seattle regional offices. The Atlanta regional office serves Alabama, Florida, Georgia, Kentucky, Mississippi, North Carolina, South Carolina, and Tennessee. The Seattle regional office serves Alaska, Arizona, American Samoa, California, Guam, Hawaii, Idaho, Republic of Marshall Islands, Federated States of Micronesia, Nevada, Northern Mariana Islands, Oregon, Republic of Palau, and Washington.

Project Period: The Atlanta and Seattle regional offices will provide a three-year project period for each University Center selected for funding under the FY 2009 University Center Economic Development Program competition, with the initial award being made for the first year of the project period. The selected University Centers will not have to compete for the second and third years of funding. Funding beyond the initial year is dependent upon the availability of funds, satisfactory performance, and satisfactory progress in achieving milestones and program goals set forth in the three-year scope of work, as determined by EDA and expressed in written notice.

Current University Center operators in the service areas of EDA's Austin, Chicago, Denver, and Philadelphia regional offices will not have to compete for continuation funding in FY 2009, subject to the availability of funds, satisfactory continuing performance, and satisfactory progress in achieving milestones and Program goals set forth in the three-year scope of work, as determined by EDA and expressed in a written notice. The servicing EDA regional office will contact current University Center operators regarding the procedures for securing FY 2009 continuation funding.

Cost Sharing Requirement: Generally, the amount of the EDA grant may not exceed fifty (50) percent of the total cost of the project. Projects may receive an additional amount that shall not exceed thirty (30) percent, as determined by EDA, based on the relative needs of the region in which the project will be located. See section 204(a) of PWEDA (42 U.S.C. 3144) and 13 CFR 301.4(b)(1). The Assistant Secretary of Commerce for Economic Development has the discretion to establish a maximum EDA investment rate of up to one-hundred (100) percent where the project (i) merits and is not otherwise feasible without an increase to the EDA investment rate; or (ii) will be of no or only incidental benefit to the recipient. See section 204(c)(3) of PWEDA (42 U.S.C. 3144) and 13 CFR 301.4(b)(4).

In the application review process, EDA will consider the nature of the contribution (cash or in-kind) and the amount of the matching share funds. In-kind contributions, fairly evaluated by EDA, may provide the non-federal share of the total project cost. See section 204(b) of PWEDA (42 U.S.C. 3144) and section III.B of the complete FFO announcement for this request for applications. In-kind contributions, which may include assumptions of debt and contributions of space, equipment, and services, are eligible to be included as part of the non-federal share of eligible project costs if they meet applicable federal cost principles and uniform administrative requirements. Funds from other federal financial assistance awards are considered matching share funds only if authorized by statute, which may be determined by EDA's reasonable interpretation of the statute. See 13 CFR 300.3. The applicant must show that the matching share is committed to the project for the entire project period, will be available as needed, and is not conditioned or encumbered in any way that precludes its use consistent with the requirements of EDA investment assistance. See 13 CFR 301.5.

Intergovernmental Review: Applications for funding under the University Center Economic Development Program are subject to the State review requirements imposed by Executive Order 12372, “Intergovernmental Review of Federal Programs,” where applicable.

Evaluation and Selection Procedures: Staff in EDA's Atlanta or Seattle regional office, as applicable, first will undertake a technical review of each application to ensure that all required forms, signatures, and documentation are present and that the application is in compliance with the requirements of this competitive solicitation. Applications failing to meet the technical requirements of this competitive solicitation will not be referred to the review panel. Following technical review, each regional office will convene a panel to review the merits of each application based on the criteria provided under “Evaluation Criteria” below. The review panel will consist of federal employees and others recommended by the Regional Director of the applicable regional office. At least three (3) members of the review panel will be EDA staff members from the Atlanta or Seattle regional office, as applicable. The review panel will evaluate independently and rate and rank competitively all technically sufficient applications based on the evaluation criteria provided under “Evaluation Criteria” below. No consensus advice will be given by the review panel.

The review panel's rating and ranking of the applications then will be presented to the regional office's Investment Review Committee (IRC). After reviewing the panel's process and recommendations, the IRC may either: (i) Forward the panel's ranked list, unaltered and in its entirety, to the Selecting Official, who is the Regional Director of the applicable regional office; or (ii) identify any deficiencies in the review process and direct the review panel to begin the process anew. If the IRC directs the panel to re-evaluate the applications, the review panel will undertake the process again and submit a revised rating and ranking of the applications to the IRC.

Evaluation Criteria: The evaluation of applications will be accomplished through a review using the following criteria, listed in descending order of importance: (a) Value of the project to EDA, its investment partners, and its stakeholders; (b) applicant's ability to successfully implement the project; and (c) feasibility of the project budget. Each criterion is detailed below.

1. Value of the Project to EDA, Its Investment Partners, and Its Stakeholders. The review panel will evaluate:

(i) The expected benefits of the proposed scope of work, in light of EDA's emphasis on market-based, results-driven, long-term regional economic development approaches that facilitate innovation and entrepreneurship and enhance regional and national competitiveness in the global economy and considering the region's unique strengths, weaknesses, opportunities, and threats;

(ii) The expected depth and breadth of these benefits in distressed communities facing economic dislocations and other economic challenges;

(iii) The extent to which the proposed project will benefit and collaborate and interact with other EDA investment partners, recipients, and stakeholders, and create synergies with EDA's Public Works, Economic Adjustment, and Planning Programs; and

(iv) The cost to the Federal Government evaluated in light of these benefits. When evaluating cost, EDA will examine the amounts in the proposed budget allocated to deliver direct program activities, as opposed to the total budget, which includes indirect costs. EDA also will consider the amount and type of match committed.

2. The Applicant's Ability to Successfully Implement the Project. The review panel will evaluate the applicant's ability to successfully implement the project. This evaluation will include the extent to which the applicant (including its sponsoring organization) has successfully implemented past technical assistance projects, especially those involving economic development. The review panel also will evaluate the subject matter expertise and project management skills of project staff as demonstrated in the application, as well the sponsoring institution's or consortium's academic programs and/or other University resources directly tied to the proposed scope of work on the basis of demonstrated subject matter leadership, research dissemination and results, experience working in the target geographic region with the target audience, and working relationships with and strong support from the private sector, tribal entities, and State and local elected officials. See 13 CFR 306.5.

The review panel also will consider the extent to which a proposed project demonstrates strong organizational leadership by evaluating the extent to which:

(i) The University Center will maximize coordination with other relevant organizations and avoid duplication of services offered by other organizations;

(ii) The University Center will access, take advantage of, and be supported by other resources present at the sponsoring institution(s), especially the institution's economic development activities; and

(iii) Evidence presented in the application demonstrates the support and commitment of the highest management levels of the University Center's sponsoring institution(s), through both financial and non-financial means.

3. Feasibility of Project Budget. The review panel will evaluate the feasibility of the project budget, including but not limited to the reasonableness and the allowability of project costs and the feasibility of accomplishing the three-year scope of work in the target geographic region within the budget provided.

Selection Factors: EDA expects to fund the highest ranking applications. The Selecting Official normally will follow the recommendations of the review panel. However, the Selecting Official may decide not to make a selection, or he may select an application out of rank order for several reasons, including: (1) A determination that the application better meets the overall objectives of sections 2 and 207 of PWEDA (42 U.S.C. 3121 and 3147); (2) availability of program funding; (3) geographic balance in distribution of program funds; (4) balanced funding for a diverse group of institutions, to include smaller and rural institutions, which may form part of a broader consortium to serve diverse populations and areas within the regional office's territory; (5) the program objectives as provided in section I.A of the complete FFO; (6) the applicant's performance under previous federal financial assistance awards; or (7) the overall mix of services, service areas, and target audiences in the regional office's University Center portfolio. If the Selecting Official makes a selection out of rank order, he will document the rationale for the decision in writing.

Informational Teleconferences: For prospective applicants, the Atlanta regional office will hold an informational teleconference on March 4, 2009, at 10:30 a.m. Eastern Time. The Seattle regional office will hold its informational teleconference call on March 5, 2009, at 10 a.m. Pacific Time.

These teleconferences will provide general program information and information regarding the preparation of applications for funding under this competitive solicitation. To ensure the integrity of this competition, EDA will not provide substantive information regarding the competition to prospective applicants outside of these scheduled teleconferences.

To ensure that enough incoming lines are available for each caller, the Atlanta regional office requires interested parties planning to participate on the teleconference to register no later than 5 p.m. Eastern Time on February 27, 2009; the Seattle regional office requires interested parties planning to participate on the teleconference to register no later than 5 p.m. Pacific Time on February 27, 2009. To register, please send an e-mail with “FY 2009 University Center Teleconference Registration” in the subject line to the designated contact person in the Atlanta or Seattle regional office, as applicable, and provided above under FOR FURTHER INFORMATION CONTACT. The telephone number and pass code for each teleconference will be provided upon registration. See also section IV.D of the complete FFO announcement.

Please be advised that the informational teleconferences may be audio-taped and the actual recordings or a transcript of the actual recording may be made available online or otherwise for the benefit of prospective applicants unable to participate. Prospective applicants who choose to participate on the teleconferences are deemed to consent to the taping.

The Department of Commerce Pre-Award Notification Requirements for Grants and Cooperative Agreements: Administrative and national policy requirements for all Department of Commerce awards are applicable to this competitive solicitation. These requirements may be found in the Department of Commerce Pre-Award Notification Requirements for Grants and Cooperative Agreements, which was published in the Federal Register on February 11, 2008 (73 FR 7696). This notice may be accessed by entering the Federal Register volume and page number provided in the previous sentence at the following Internet Web site: http://www.gpoaccess.gov/fr/index.html.

Paperwork Reduction Act: This document contains collection-of-information requirements subject to the Paperwork Reduction Act (PRA). The use of Form ED-900 (Application for Investment Assistance) has been approved by the Office of Management and Budget (OMB) under the control number 0610-0094. Notwithstanding any other provision of law, no person is required to respond to, nor shall any person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: February 17, 2009.
Barry Bird,
Chief Counsel, Economic Development Administration.

[FR Doc. E9-3658 Filed 2-19-09; 8:45 am]

BILLING CODE 3510-24-P